DEPARTMENT OF DEFENSE

Department of the Navy

Notice of Availability and Notice of Public Meetings for the Draft Environmental Impact Statement/Overseas Environmental Impact Statement for Commonwealth of the Northern Mariana Islands Joint Military Training

AGENCY: Department of the Navy, Department of Defense.

ACTION: Notice.

SUMMARY: Pursuant to section 102(2)(c) of the National Environmental Policy Act of 1969, and regulations implemented by the Council on Environmental Quality (40 Code of Federal Regulations parts 1500-1508), Presidential E. O. 12114, Department of the Navy Procedures for Implementing NEPA (32 CFR part 775), and United States (U.S.) Marine Corps NEPA implementing regulations (Marine Corps Order P5090.2A), the U.S. Marine Corps Forces, Pacific (MARFORPAC) has prepared and filed with the U.S. Environmental Protection Agency a Draft Environmental Impact Statement/Overseas Environmental Impact Statement (EIS/OEIS). The Draft EIS/OEIS evaluates the potential environmental impacts associated with the establishment of a series of live-fire ranges, training courses and maneuver areas in the Commonwealth of the Northern Mariana Islands (CNMI) to reduce existing joint service training deficiencies and meet U.S. Pacific Command (PACOM) Service Components' unfilled unit and combined level training requirements in the Western Pacific. The Federal Aviation Administration (FAA); International Broadcasting Bureau (IBB); U.S. Army Corps of Engineers (USACE); National Marine Fisheries Service; U.S. Air Force; and U.S. Department of Interior, Office of Insular Affairs are cooperating agencies for this Draft EIS/OEIS. MARFORPAC has also developed a Memorandum of Understanding with the PACOM Service Components regarding their support and engagement in the development of the EIS/OEIS.

With the filing of the Draft EIS/OEIS, the Department of Defense (DoD) is initiating a 60-day public comment period and has scheduled three public comment meetings to receive oral and written comments on the Draft EIS/OEIS. Federal, state and local agencies and interested parties are encouraged to provide comments in person at any of the public comment meetings, or in writing anytime during the public comment period. This Notice announces the dates and locations of the public meetings and provides supplementary information about the environmental planning effort.

DATES: Three public meetings will be held, each including an informational open house followed by a public hearing. Each meeting will begin with a two-hour open house session where the public can learn more about the proposed action and potential environmental impacts from project team members and subject matter experts. A public hearing will follow the open house. The public is encouraged to attend the meetings, which will be held on the following dates, times, and locations:

• Wednesday, April 29, 2015, 5:00p.m.-8:00p.m., Saipan Southern High School, Saipan

• Thursday, April 30, 2015, 5:00p.m.-8:00p.m., Tinian Junior Senior High School, Tinian

• Friday, May 1, 2015, 5:00p.m.-8:00p.m., Garapan Elementary School, Saipan

Informational posters will be displayed and project team members and subject matter experts will be available during the open house portion of the meetings to discuss the proposed action, answer questions, and to accept written comments from the public. A Chamorro and Carolinian interpreter will be available. Oral comments will be recorded by a court reporter during the public hearing portion of the meetings. In the interest of available time, speakers at the public hearing will be limited to three (3) minutes to ensure all who wish to speak have an opportunity to do so. If a long statement is to be presented, it should be summarized at the public hearing and the full text submitted in writing. Full and equal consideration will be given to oral and written statements. Concurrent with the NEPA process, the DoD is conducting National Historic Preservation Act (NHPA) section 106 consultation regarding potential effects of the proposed action on historic properties. During each of the above meetings, the DoD will hold NHPA section 106 information sessions in a separate area where subject matter experts will explain the NHPA section 106 process and solicit public input on the effects of the proposed action on historic properties.

Comments: Comments on the Draft EIS/OEIS may be submitted during the 60-day public comment period starting on April 3, 2015 Hawaii Standard Time (HST) (April 4, 2015 Chamorro Standard Time [ChST]). Comments should be postmarked or received by June 2, 2015 HST (June 3, 2015 ChST). There are three ways to submit written comments: (1) providing comments at one of the public meetings; (2) submitting comments through the project Web site: www.CNMIJointMilitaryTrainingEIS.com; and (3) mailing comments to the following addresses: Naval Facilities Engineering Command, Pacific, Attn: 09PA, Public Affairs Office, 258 Makalapa Drive, Suite 100, JBPHH, HI 96860-3134.

The Draft EIS/OEIS was distributed to federal and local agencies, elected officials, and other interested individuals and organizations. The Draft EIS/OEIS is available for public review at www.CNMIJointMilitaryTrainingEIS.com, and at the following libraries:

1. Joeten Kiyu Public Library, Saipan.

2. Northern Marianas College Olympio T. Borja Memorial Library, Saipan.

3. Tinian Public Library, Tinian.

4. Antonio C. Atalig Memorial Rota Public Library, Rota.

SUPPLEMENTARY INFORMATION: The U.S. Marine Corps Forces, Pacific issued its Notice of Intent (NOI) to prepare the EIS/OEIS in March 2013 in the Federal Register (78 FR 16257, March 14, 2013).

Proposed Action: The proposed action is to establish live-fire Range Training Areas (RTAs) within the CNMI to address the U.S. Pacific Command Service Components' unfilled unit level and combined level training requirements in the Western Pacific. To meet the purpose and need for the proposed action, the DoD proposes a unit level RTA on Tinian and a combined level RTA on Pagan.

Purpose and Need: The purpose of the proposed action is to reduce joint training deficiencies for military services in the Western Pacific. Existing U.S. military live-fire, unit and combined level training ranges, training areas, and support facilities are insufficient to support U.S. Pacific Command Service Components' training requirements in the Western Pacific, specifically in the Mariana Islands. The proposed action is needed to enable U.S. Pacific Command forces to meet their U.S. Code title 10 (Armed Forces) requirements to maintain, equip, and train combat and humanitarian forces in the Western Pacific. The proposed action assists in correcting these training deficiencies by establishing live-fire unit and combined level RTAs in the CNMI. Establishing unit and combined level RTAs in the CNMI would support ongoing operational requirements, changes to U.S. force structure, geographic repositioning of forces and U.S. training relationships with allied nations.

Alternatives Considered: The Draft EIS/OEIS evaluates the potential environmental impacts of three action alternatives on Tinian, two action alternatives on Pagan, and the No Action Alternative. The No Action Alternative would continue existing non-live-fire training activities on Tinian and Pagan, and construction and use of four live fire training ranges on Tinian as identified in the 2010 Record of Decision for the Guam Relocation EIS. For the action alternatives, a combination of one Tinian unit level alternative and one Pagan combined level alternative is required to meet the purpose and need for addressing unfilled training requirements in the Western Pacific. All Tinian action alternatives include common elements for unit level land, sea, and training operations that consist of ranges, training beaches, High Hazard Impact Areas and associated targets, infrastructure and facility construction; utilization of all DoD-leased land; and minimal real estate interest outside the Military Lease Area. Tinian Alternative 1 consists of a live-fire unit level RTA which includes a single Battle Area Complex and Convoy Course with some limitations on the range of weapons that can be employed due to the presence of the IBB facility. Tinian Alternative 2 (Preferred Alternative) consists of two Battle Area Complexes and a Convoy Course with a greater number of engagement zones than Tinian Alternative 1. Under Alternative 2, the IBB facility is absent, thus allowing for full range of weapons employment. Tinian Alternative 3 provides a similar level of training capability as Alternative 1, but with a single Battle Area Complex in a different location, and the same Convoy Course and range of weapons employment as Tinian Alternative 2. Both Pagan action alternatives include elements for combined level land, sea, and air training operations; infrastructure construction to support expeditionary military training; require the acquisition of real estate interest in Pagan; and allow for maneuvering and live-fire engagement. Pagan Alternative 1 consists of a live-fire combined level RTA to support proposed training and operations which includes two High Hazard Impact Areas, 11 landing zones, and 5 Mortar Range firing positions. Pagan Alternative 2 (Preferred Alternative) consists of a single, smaller High Hazard Impact Area, 13 landing zones, and 6 Mortar Firing Positions and provides greater ground maneuver flexibility as compared to Pagan Alternative 1.

The Draft EIS/OEIS provides information on the affected environment and impacts of the proposed actions for 16 distinct resource areas. Resources evaluated include geology and soils, water resources, air quality, noise, airspace, land and submerged land use, recreation, terrestrial biology, marine biology, cultural resources, visual resources, transportation, utilities, socioeconomics and environmental justice, hazardous materials and waste, and public health and safety. In accordance with section 7 of the Endangered Species Act, the DoD is consulting with the National Marine Fisheries Service (NMFS) and the U.S. Fish and Wildlife Service on the potential impacts of training activities on federally listed species. In accordance with the Marine Mammal Protection Act and Magnuson-Stevens Fishery Conservation and Management Act, the DoD is consulting with NMFS on federally managed species and their essential fish habitat.

Preferred Alternative: Based on the analysis presented in this Draft EIS/OEIS, DoD has identified Tinian Alternative 2 and Pagan Alternative 2 as its preferred alternative. This combination of alternatives best fulfills DoD's statutory mission and responsibilities, giving consideration to economic, environmental, technical, and other factors. DoD considered military requirements, infrastructure and environmental impacts and constraints, and scoping input from the public, resource agencies, and the CNMI Government during the process of identifying a preferred alternative. The combination of alternatives best meets the minimum U.S. Pacific Command Service Components' unfilled unit level and combined level training requirements in the Western Pacific (size and layout), and maximizes the use of federal land on Tinian.

FOR FURTHER INFORMATION CONTACT: Please visit the project Web site (www.CNMIJointMilitaryTrainingEIS.com) or contact the CNMI Joint Military Training EIS/OEIS Project Manager by email via the project Web site. Please submit requests for special assistance, sign language interpretation for the hearing impaired, or other auxiliary aids needed at the public meeting directly to NAVFAC Pacific Public Affairs Office at 808-472-1007/472-1008 by April 16, 2015.

Dated: March 31, 2015.
N. A. Hagerty-Ford,
Commander, Office of the Judge Advocate General, U.S. Navy, Federal Register Liaison Officer.

[FR Doc. 2015-07729 Filed 4-3-15; 8:45 am]

BILLING CODE 3810-FF-P